NUCLEAR REGULATORY COMMISSION

[Docket No. 50-029]

Environmental Assessment and Finding of No Significant Impact for Proposed Disposal Procedures for the Yankee Atomic Electric Company in Accordance With 10 CFR 20.2002, License DPR-003, Rowe, MA

AGENCY: U.S. Nuclear Regulatory Commission.

ACTION: Environmental Assessment and Finding of No Significant Impact.

FOR FURTHER INFORMATION CONTACT: John Hickman, Division of Waste Management and Environmental Protection, Office of Nuclear Material Safety and Safeguards, U.S. Nuclear Regulatory Commission, Mail Stop: T7E18, Washington, DC 20555-00001. Telephone: (301) 415-3017; e-mail: jbh@nrc.gov.

SUPPLEMENTARY INFORMATION:

I. Introduction

The U.S. Nuclear Regulatory Commission (NRC) is considering a request dated June 6, 2005, as supplemented by a letter dated October 31, 2005, by the Yankee Atomic Electric Company (YAEC or the Licensee), to approve disposal procedures pursuant to Section 20.2002 of Title 10 of the Code of Federal Regulations (10 CFR part 20.2002), “Method of Obtaining Approval of Proposed Disposal Procedures.” The licensee's proposed disposal is to allow the continued use of concrete blocks containing radioactive materials as a retaining wall at an off-site location in Vermont. The proposed disposal would exempt the disposal site from Atomic Energy Act (AEA) and NRC licensing requirements for possession of the radioactive materials contained in the retaining wall.

II. Environmental Assessment

Background

Yankee Nuclear Power Station (YNPS) is a deactivated pressurized-water nuclear reactor situated on a small portion of a 2,200-acre site. The site is located in northwestern Massachusetts in Franklin County, near the southern Vermont border. The plant and most of the 2,200-acre site are owned by the YAEC. A small portion on the west side of the site (along the east bank of the Sherman Reservoir) is owned by USGen New England, Inc. The YNPS plant was constructed between 1958 and 1960 and operated commercially at 185 megawatts electric (after a 1963 upgrade) until 1992. In 1992, YAEC determined that closing of the plant would be in the best economic interest of its customers. In December 1993, NRC amended the YNPS operating license to retain a “possession-only” status. YAEC began dismantling and decommissioning activities at that time.

The waste material intended for disposal consists of concrete shield blocks from within the reactor support structure (RSS) that were removed, sand blasted, surveyed, and released from licensee radiological controls in 1999. At the time of the shield block release, analyses of the radionuclide content of concrete within the reactor support structure indicated values less than the minimum detectable activity. Based on these results and surface contamination surveys, the shield blocks were determined to be free of detectable licensed radioactive material. These analyses were performed to the specified levels for 10 CFR Part 61 waste classification requirements.

Forty of the shield blocks from the steam generator cubicles were removed from the site under an approved Massachusetts Department of Environmental Protection (MADEP) Beneficial Use Determination (BUD) and used to construct a retaining wall at a private residence in Readsboro, Vermont. In 2004, as part of preparation for demolition and plans to retain RSS concrete on-site, the licensee performed further volumetric sampling and analysis of radionuclides. A lower limit of detection of 10 pCi/g for H-3 was established for the additional volumetric sampling, based upon the concrete derived concentration guideline limits and the requirements of the License Termination Plan (LTP). This analysis identified the presence of H-3 in essentially all concrete within the RSS. Levels of H-3 from samples taken in the proximity of the former location of the steam generator shield blocks indicated H-3 levels averaging approximately 200 pCi/g. Based upon the results of samples of RSS concrete, the licensee subsequently had samples from the released shield blocks in Vermont analyzed for the suite of radionuclides listed in the LTP, using detection limits consistent with the requirements of the LTP. The results indicated detectable levels of only H-3 and C-14. Subsequent to the discovery of radioactive contamination in the concrete blocks, the MADEP has stated that the BUD should be viewed as providing inadequate legal authority for the removal of the shield blocks from YNPS. Therefore, the licensee submitted the subject request for disposal pursuant to 10 CFR 20.2002.

The retaining wall was built by the property owner atop a previous poured concrete retaining wall approximately 8 feet high along a stream. It consists of 35 interlocking blocks stacked 2 high with a nominal length of 250 feet. Gravel and soil has been back filled to the top of the new retaining wall. To preclude a fall hazard, the property owner added a chain link fence along the top of the wall. Thus the majority of the surface areas of the blocks (to all but a small 1.5′ wide strip at the top) in the wall are inaccessible.

Five (5) other blocks were used for general retaining walls, two at the far end of the retaining wall, two on one side of the property's building structure and one on the opposite side of the structure. The blocks near the building structure have the greatest accessibility.

The 40 blocks used at the off-site location varied from approximately 5 feet to over 10 feet in length, 2 feet to 3 feet thick, and 3 feet high. The total weight of the blocks is 259 tons or 2.35E+8 grams. In addition, there were four smaller blocks which were used as weights for crane testing and one concrete block from the turbine building, which were released and also sent to this off-site location. However, these five concrete blocks are not included in this request for alternate disposal because of the lack of detectable contamination in these blocks.

This Environmental Assessment (EA) has been developed in accordance with the requirements of 10 CFR 51.21.

Proposed Action

The proposed action is to allow the 40 concrete blocks to remain in place at the off-site location in Vermont which will be exempted from licensing requirements. The proposed action is in accordance with the licensee's application dated June 6, 2005, as revised on October 31, 2005, requesting approval.

Need for Proposed Action

Based upon the non-radiological risks associated with removing and returning the shield blocks back to the Yankee Rowe site, the preference of the property owner to keep the wall intact, and a small estimated dose to the public, the licensee has requested to allow the shield blocks to remain in place. This proposed action would require the NRC to exempt the site containing the low-contaminated material authorized for disposal from further AEA and NRC licensing requirements.

Alternatives to the Proposed Action

Alternatives to the proposed action include denying the request which would necessitate the removal of the shield blocks and returning them to the Yankee Rowe site. YAEC has determined that allowing the blocks to remain in place is less costly and less radiologically hazardous than the alternative. Disposal of the demolition debris in the manner proposed is protective of public health and safety, is the most cost-effective alternative and safe alternative, and is most satisfying to the affected parties.

Environmental Impacts of the Proposed Action

The NRC has completed its evaluation of the proposed action and concludes there are no significant radiological environmental impacts associated with allowing the shield blocks to remain in place on private property in Readsboro, Vermont.

The licensee performed a dose analysis for the blocks using approved derived concentration guideline levels (DCGLs) for subsurface partial structures from the LTP. For this calculation, the licensee assumed:

(1) The contaminants move out of the concrete into the groundwater, and the dose is incurred by subsequent use of this groundwater although due to the height of the wall in relation to the stream, water flow would be towards the adjacent stream and no wells currently exist on the property where the blocks are located and none can be drilled between the blocks and the stream;

(2) A form of concrete (monoliths) and contamination similar to that found in the area in question;

(3) A quantity of contaminated concrete that bounded the amount contained in the blocks in Vermont;

(4) A DCGL based on an assumption that the subject person's entire diet (fruits, vegetables, grains, meat, fish, and milk) has been grown in the affected area, an activity which cannot be accomplished on the available area in question;

(5) And the maximum average concentration of H-3 and C-14 in the blocks was the higher measured value either from the RSS sample or the Readsboro sample.

The analyses conservatively estimated the exposure to less than 1.0 mrem total dose per year. The proposed action will not significantly increase the probability or consequences of accidents and there is no significant increase in occupational or public radiation exposures.

With regard to potential non-radiological impacts, the proposed action does not have a potential to affect any historic sites. The retention of the blocks in their existing location does not affect non-radiological plant effluents, air quality, or noise.

The proposed action and attendant exemption of the site from further AEA and NRC licensing requirements will not significantly increase the probability or consequences of accidents, no changes are being made in the types of any effluents that may be released off site, and there is no significant increase in occupational or public radiation exposure.

Environmental Impacts of the Alternatives to the Proposed Action

As an alternative to the proposed action, the NRC considered denial of the proposed action. The implications from the denial alternative is that the blocks currently being used as a retaining wall would have to be removed and disposed of at an appropriate disposal facility. This alternative would require a significant industrial activity with an associated risk of injury. Although the contamination level is low, this alternative would also result in an increase in occupational exposure as a result of the removal and relocation process. Additionally, the transportation of the blocks from their present location to a disposal facility would add an air quality and transportation risk impact. Finally, the property owner has indicated his desire to retain the blocks for the retaining wall. The removal of the blocks would necessitate a change to property usage or construction of an alternative wall, either of which would pose a significant financial impact to the property owner. The NRC has determined that the impacts of the alternative are greater than that of the proposed action.

Agencies and Persons Consulted

This EA was prepared by John B. Hickman, Project Manager, Decommissioning Directorate, Division of Waste Management and Environmental Protection (DWMEP). NRC staff determined that the proposed action is not a major decommissioning activity and will not affect listed or proposed endangered species, nor critical habitat. Therefore, no further consultation is required under Section 7 of the Endangered Species Act. Likewise, NRC determined that the proposed action is not the type of activity that has the potential to cause previously unconsidered effects on historic properties, as consultation for site decommissioning has been conducted previously. There are no additional impacts to historic properties associated with the disposal method and location for demolition debris. Therefore, no consultation is required under Section 106 of the National Historic Preservation Act. The NRC provided a draft of its EA to the following individuals:

Mr. Dave Howland, Massachusetts Department of Environmental Protection, Western Regional Office, 436 Dwight Street, Springfield, MA 01103.

Mr. Michael Whalen, Radiation Control Program, Massachusetts Department of Public Health, 90 Washington Street, Dorchester, MA 02121.

Ms. Carla A. White, Vermont Department of Health, 108 Cherry St., P.O. Box 70 Burlington, VT 05402.

The owner of the property where the blocks are currently located.

Name and address withheld from public disclosure.

Both the MADEP and the MA Department of Public Health noted that the BUD previously issued by the MADEP is not appropriate for the removal, transport, or disposal of low-level radioactive waste. Therefore, based on the subsequently identified radioactive materials in the concrete blocks, the MADEP does not consider the BUD as providing adequate legal authority for the removal of the shield blocks from the site. Otherwise neither the MADEP or MADPH had any issue with the proposed NRC action.

Neither the Vermont Department of Health or the property owner had any comments on the proposed NRC action.

III. Finding of No Significant Impact

On the basis of the environmental assessment, the NRC concludes that the proposed action will not have a significant effect on the quality of the human environment. Accordingly, the NRC has determined not to prepare an environmental impact statement for the proposed action.

Sources Used

—US NRC Power Reactor License: Yankee Atomic Electric Company Docket Number 050-00029, License Number DPR-03.

—Yankee Atomic Electric Company, June 6, 2005, Request for Approval of Proposed Procedures in Accordance with 10 CFR part 20.2002, (ML051650291) as supplemented on October 31, 2005. (ML053120275)

—NRC 10 CFR 20.2002, “Method of Obtaining Approval of Proposed Disposal Procedures.”

—NUREG-1640, “Radiological Assessment for Clearance of Materials from Nuclear Facilities.”

—NUREG-1748, “Environmental Review Guidance for Licensing Actions Associated with NMSS Programs.”

—NUREG-0586, Supplement 1, Generic Environmental Impact Statement of Decommissioning of Nuclear Facilities, November 2002.

IV. Further Information

For further details with respect to the proposed action, see the licensee's letter dated June 6, 2005, (ADAMS Accession No. ML051650291) as supplemented on October 31, 2005. (ADAMS Accession No. ML053120275) The NRC Public Documents Room is located at NRC Headquarters in Rockville, MD, and can be contacted at (800) 397-4209. Documents may be examined, and/or copied for a fee, at the NRC's Public Document Room (PDR), located at One White Flint North, 11555 Rockville Pike (first floor), Rockville, Maryland. Publicly available records will be accessible electronically from the Agencywide Documents Access and Management System's (ADAMS) Public Library component on the NRC Web site, http://www.nrc.gov (the Public Electronic Reading Room). Persons who do not have access to ADAMS or who encounter problems in accessing the documents located in ADAMS should contact the NRC PDR Reference staff by telephone at 1-800-397-4209, or 301-415-4737, or by e-mail at pdr@nrc.gov.

Dated at Rockville, Maryland, this 1st day of March, 2006.
For the Nuclear Regulatory Commission
Andrew Persinko,
Acting Deputy Director, Decommissioning Directorate, Division of Waste Management and Environmental Protection, Office of Nuclear Material Safety and Safeguards.

[FR Doc. E6-3338 Filed 3-8-06; 8:45 am]

BILLING CODE 7590-01-P